OFFICE OF PERSONNEL MANAGEMENT

Excepted Service

AGENCY: Office of Personnel Management.

ACTION: Notice.

SUMMARY: This gives notice of positions placed under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established or revoked under Schedule C between November 1, 2001, and November 30, 2001, appear in the listing below. A consolidated listing of all authorities as of June 30 is published each year.

Schedule C

Commission on Civil Rights

Special Assistant to the Staff Director. Effective November 29, 2001.

Department of Agriculture

Confidential Assistant to the Chief Financial Officer. Effective November 13, 2001.

Confidential Assistant to the Administrator, Rural Business-Cooperative Service. Effective November 19, 2001.

Confidential Assistant to the Administrator, Rural Business-Cooperative Service. Effective November 20, 2001.

Special Assistant to the Under Secretary for Natural Resources and Environment. Effective November 27, 2001.

Department of Commerce

Legislative Affairs Specialist to the Director of Legislative Affairs. Effective November 1, 2001.

Senior Advisor to the Assistant Secretary for Economic Development. Effective November 1, 2001.

Special Assistant to the Director, Office of Policy and Strategic Planning. Effective November 1, 2001.

Confidential Assistant to the Assistant Secretary for Market Access and Compliance. Effective November 1, 2001.

Director of Congressional Affairs to the Under Secretary for International Trade. Effective November 6, 2001.

Chief Counsel to the Assistant Secretary for Economic Development. Effective November 15, 2001.

Public Affairs Specialist to the Assistant Secretary for Communications and Information. Effective November 15, 2001.

Public Affairs Specialist to the Assistant Secretary for Economic Development. Effective November 19, 2001.

Senior Advisor to the Assistant Secretary for Import Administration. Effective November 19, 2001.

Deputy Press Secretary to the Director, Office of Public Affairs. Effective November 19, 2001.

Senior Advisor to the Under Secretary for Technology, International Trade Administration. Effective November 26, 2001.

Public Affairs Specialist to the Press Secretary. Effective November 28, 2001.

Special Assistant to the Assistant Secretary for Market Access and Compliance. Effective November 28, 2001.

Director, Intergovernmental Affairs to the Deputy Assistant Secretary for Program Research and Evaluation. Effective November 29, 2001.

Director, Office of White House Liaison to the Chief of Staff. Effective November 30, 2001.

Department of Defense

Special Assistant to the Deputy Under Secretary of Defense (Logistics and Material Readiness). Effective November 1, 2001.

Special Assistant to the Assistant Secretary of Defense (Legislative Affairs). Effective November 20, 2001.

Personal and Confidential Assistant to the Under Secretary of Defense (Acquisition, Technology and Logistics). Effective November 20, 2001.

Staff Specialist to the Deputy Under Secretary of Defense (Logistics and Material Readiness). Effective November 26, 2001.

Department of Education

Special Assistant to the Deputy Assistant Secretary for Regional Services. Effective November 6, 2001.

Confidential Assistant to the Director, Scheduling and Briefing Staff. Effective November 6, 2001.

Confidential Assistant to the Senior Advisor to the Secretary of Education. Effective November 6, 2001.

Special Assistant to the Chief of Staff. Effective November 6, 2001.

Confidential Assistant to the Chief of Staff, Office of the Deputy Secretary. Effective November 7, 2001.

Confidential Assistant to the Assistant Secretary for Elementary and Secondary Education. Effective November 7, 2001.

Special Assistant to the Deputy Assistant Secretary for Regional Services. Effective November 13, 2001.

Deputy Director to the Director, Office of Bilingual Education and Minority Language Affairs. Effective November 21, 2001.

Press Secretary to the Director, Office of Public Affairs. Effective November 21, 2001.

Confidential Assistant to the Director, Scheduling and Briefing Staff. Effective November 21, 2001.

Special Assistant to the Assistant Secretary for Elementary and Secondary Education. Effective November 21, 2001.

Special Assistant to the Director, Scheduling and Briefing Staff. Effective November 21, 2001.

Special Assistant to the Director, Office of Public Affairs. Effective November 21, 2001.

Confidential Assistant to the Director, Scheduling and Briefing Staff. Effective November 21, 2001.

Deputy Director to the Chief of Staff. Effective November 29, 2001.

Department of Energy

Special Assistant to the Principal Deputy Assistant Secretary, Office of Congressional and Intergovernmental Affairs. Effective November 5, 2001.

Legislative Counsel to the Assistant Secretary for Congressional and Intergovernmental Affairs. Effective November 19, 2001.

Senior Advisor, Legislative Affairs to the Assistant Secretary for Energy Efficiency and Renewable Energy. Effective November 20, 2001.

Deputy Director of Scheduling to the Director of Scheduling and Advance. Effective November 20, 2001.

Trip Coordinator to the Director, Office of Scheduling and Advance. Effective November 20, 2001.

Staff Assistant to the Director, Office of Scheduling and Advance. Effective November 20, 2001.

Director, Press Office to the Director, Office of Public Affairs. Effective November 20, 2001.

Staff Assistant to the Assistant Secretary for International Affairs. Effective November 28, 2001.

Department of Health and Human Services

Special Assistant to the Administrator, Human Resources and Services Administration. Effective November 1, 2001.

Congressional Liaision Specialist to the Deputy Assistant Secretary for Legislation, Office of Congressional Liaison. Effective November 1, 2001.

Executive Director, President's Advisory Commission and White House Initiative on Asian Americans and Pacific Islanders to the Assistant Secretary for Health. Effective November 6, 2001.

Confidential Assistant to the Chief Operating Officer and Deputy Administrator. Effective November 7, 2001.

Special Assistant to the Administrator, Centers for Medicare and Medicaid Services. Effective November 15, 2001.

Special Assistant to the Deputy Assistant Secretary for Legislation. Effective November 27, 2001.

Special Assistant to the Assistant Secretary for Aging. Effective November 27, 2001.

Special Assistant for International and Immigration Issues to the Assistant Secretary, Administration for Children and Families. Effective November 27, 2001.

Secretary's Regional Representative-Seattle, Washington, to the Director, Office of the Intergovernmental Affairs. Effective November 27, 2001.

Department of Housing and Urban Development

Staff Assistant to the Assistant Secretary for Housing. Effective November 15, 2001.

Deputy Assistant Secretary for International Affairs to the Assistant Secretary for Policy Development and Research. Effective November 15, 2001.

Staff Assistant to the Deputy Assistant Secretary for Intergovernmental Affairs. Effective November 16, 2001.

Special Assistant to the Assistant Secretary for Community Planning and Development. Effective November 16, 2001.

Staff Assistant to the Deputy Assistant Secretary for Intergovernmental Affairs. Effective November 16, 2001.

Special Assistant to the Deputy Assistant Secretary for Intergovernmental Affairs. Effective November 16, 2001.

Special Assistant to the Assistant Secretary for Fair Housing and Equal Opportunity. Effective November 19, 2001.

Department of the Interior

Associate Director—House to the Director, Office of Congressional and Legislative Affairs. Effective November 5, 2001.

Assistant Director, Legislative and Congressional Affairs to the Director, National Park Service. Effective November 29, 2001.

Department of Justice

Confidential Assistant to the Director, Office of Intergovernmental Affairs. Effective November 6, 2001.

Special Assistant to the Assistant Attorney General, Office of Justice Programs. Effective November 6, 2001.

Counsel to the Assistant Attorney General, Criminal Division. Effective November 8, 2001.

Counsel to the Assistant Attorney General, Civil Rights Division. Effective November 15, 2001.

Counsel to the Assistant Attorney General, Antitrust Division. Effective November 15, 2001.

Counsel to the Assistant Attorney General, Environmental and Natural Resources Division. Effective November 20, 2001.

Counsel to the Assistant Attorney General, Civil Rights Division. Effective November 20, 2001.

Special Assistant to the Director, Community Oriented Policing Services. Effective November 21, 2001.

Special Assistant to the Assistant Attorney General, Office of Legislative Affairs. Effective November 27, 2001.

Confidential Assistant to the Assistant Attorney General, Antitrust Division. Effective November 28, 2001.

Department of Labor

Senior Legislative Officers to the Assistant Secretary for Congressional and Intergovernmental Affairs. Effective November 1, 2001.

Special Assistant to the Assistant Secretary for Occupational Safety and Health. Effective November 1, 2001.

Special Assistant to the Chief of Staff. Effective November 7, 2001.

Special Assistant to the Assistant Secretary for Mine Safety and Health. Effective November 7, 2001.

Chief Economist to the Assistant Secretary for Policy. Effective November 8, 2001.

Staff Assistant to the Director, Office of Faith Based Initiatives. Effective November 27, 2001.

Department of State

Attorney-Advisor to the Legal Advisor. Effective November 1, 2001.

Special Assistant to the Under Secretary for Economic, Business and Agricultural Affairs. Effective November 5, 2001.

Department of Transportation

Associate Director to the Assistant Secretary for Governmental Affairs. Effective November 6, 2001.

Special Assistant to the Assistant to the Secretary and Director of Public Affairs. Effective November 19, 2001.

Special Assistant to the Assistant Secretary for Governmental Affairs. Effective November 27, 2001.

Special Assistant to the Assistant Secretary for Policy. Effective November 27, 2001.

Department of the Treasury

Senior Advisor to the Assistant Secretary (Financial Markets). Effective November 8, 2001.

Special Assistant for Advance to the Director of Scheduling. Effective November 21, 2001.

Department of Veterans Affairs

Special Assistant (Assistant White House Liaison) to the Deputy Assistant Secretary for Public Affairs. Effective November 5, 2001.

Special Assistant to the Assistant Secretary for Congressional and Legislative Affairs. Effective November 20, 2001.

Export-Import Bank of the United States

Administrative Specialist to the Executive Assistant to the President and Chairman. Effective November 15, 2001.

Federal Mine Safety and Health Review Commission

Confidential Assistant to the Chairman. Effective November 1, 2001.

General Services Administration

Special Assistant to the Chief of Staff, Public Building Service. Effective November 29, 2001.

National Aeronautics and Space Administration

Staff Support Specialist to the Associate Administrator for Public Affairs. Effective November 7, 2001.

National Transportation Safety Board

Special Counsel to the Chairman. Effective November 8, 2001.

Office of Management and Budget

Legislative Assistant to the Associate Director for Legislative Affairs. Effective November 1, 2001.

Public Affairs Officer to the Associate Director for Communications. Effective November 26, 2001.

Staff Assistant to the Deputy Director. Effective November 28, 2001.

President's Commission on White House Fellowships

Special Assistant to the Executive Director. Effective November 19, 2001.

Associate Director to the Executive Director. Effective November 20, 2001.

Securities and Exchange Commission

Director, Public Affairs to the Chairman, Securities and Exchange Commission. Effective November 13, 2001.

Confidential Assistant to the Chairman. Effective November 13, 2001.

Small Business Administration

Regional Administrator, Region VIII, Denver Colorado to the Associate Administrator for Field Operations. Effective November 5, 2001.

Regional Administrator, Region II, New York, NY to the Associate Administrator for Field Operations. Effective November 5, 2001.

Regional Administrator to the Associate Administrator for Field Operations. Effective November 5, 2001.

Regional Administrator to the Associate Administrator for Field Operations. Effective November 5, 2001.

Special Assistant to the Associate Administrator for Communications and Public Liaision. Effective November 6, 2001.

Special Assistant (Scheduling) to the Administrator. Effective November 15, 2001.

Director of International Trade to the Associate Deputy Administrator for Capital Access. Effective November 15, 2001.

Special Assistant to the Associate Administrator for Women's Business Ownership. Effective November 15, 2001.

Senior Advisor to the Associate Deputy Administrator for Government Contracting and Business Development. Effective November 15, 2001.

United States Trade and Development Agency

Special Projects Officer to the Director, Trade and Development Agency. Effective November 30, 2001.

Authority: 5 U.S.C. 3301 and 3302; E.O. 10577, 3 CFR 1954—1958 Comp., P.218

Office of Personnel Management,
Kay Coles James,
Director.

[FR Doc. 02-1324 Filed 1-17-02; 8:45 am]

BILLING CODE 6325-01-P